ENVIRONMENTAL PROTECTION AGENCY

40 CFR Part 52

[MI83-02-7292; FRL-7581-9]

Approval and Promulgation of Air Quality Implementation Plans; Michigan; Withdrawal of Direct Final Rule

AGENCY: Environmental Protection Agency (EPA).

ACTION: Withdrawal of direct final rule.

SUMMARY: Due to the receipt of an adverse comment, the EPA is withdrawing the direct final rule approving a revision to Michigan's definition of volatile organic compound. The approval would have revised Michigan's State Implementation Plan (SIP) for ozone. In the direct final rule published on September 2, 2003 (68 FR 52104), EPA stated that if EPA receives adverse comment by October 2, 2003, the rule would be withdrawn and not take effect. On September 2, 2003, EPA subsequently received one comment. We believe this comment is adverse and, therefore, we are withdrawing the direct final rule. EPA will address the comment received in a subsequent final action based on the proposed action published on September 2, 2003.

DATES: The direct final rule published at 68 FR 52104 on September 2, 2003, is withdrawn as of October 31, 2003.

FOR FURTHER INFORMATION CONTACT: Kathleen D'Agostino, Criteria Pollutant Section, Air Programs Branch (AR-18J), U.S. Environmental Protection Agency, 77 West Jackson Boulevard, Chicago, Illinois 60604. Telephone: (312) 886-1767. E-Mail Address: dagostino.kathleen@epa.gov

List of Subjects in 40 CFR Part 52

Environmental protection, Air pollution control, Intergovernmental relations, Ozone, Reporting and recordkeeping requirements, Volatile organic compounds.

Authority: 42 U.S.C. 7401 et seq.

Dated: October 23, 2003.
Bharat Mathur,
Acting Regional Administrator, Region 5.

PART 52—[AMENDED]

Accordingly, the addition of 40 CFR 52.1170(c)(119) is withdrawn as of October 31, 2003.

[FR Doc. 03-27549 Filed 10-30-03; 8:45 am]

BILLING CODE 6560-50-P